DEPARTMENT OF TRANSPORTATION

Pipeline and Hazardous Materials Safety Administration

Office of Hazardous Materials Safety; Actions on Special Permit Applications

AGENCY: Pipeline And Hazardous Materials Safety Administration (PHMSA), DOT.

ACTION: Notice of actions on Special Permit Applications.

SUMMARY: In accordance with the procedures governing the application for, and the processing of, special permits from the Department of Transportation's Hazardous Material Regulations (49 CFR Part 107, Subpart B), notice is hereby given of the actions on special permits applications in (October to April 2008). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on June 4, 2008.
Delmer F. Billings,
Director, Office of Hazardous Materials, Special Permits and Approvals.

S.P. No. | Docket No. | Applicant | Regulation(s) | Nature of special permit thereof
Modification Special Permit Granted
14190-M | PHMSA-21262 | Cordis Corporation, Miami Lakes, FL | 49 CFR 172.200, 172.300, 172.400 | To modify the special permit to authorize the transportation in commerce of certain Division 4.1 hazardous materials.
14516-M | PHMSA-28468 | FedEx Express, Baton Rouge, LA | 49 CFR 175.75(d), 172.203(a), 172.301(c) | To modify the special permit to waive the requirement to carry a copy of the permit on every aircraft.
11513-M |  | ATK Launch Systems Inc. (Former Grantee: ATK Thiokol, Inc.), Brigham City, UT | 49 CFR 172.101, 173.52, 173.54 | To modify the special permit to authorize the use of static free plastic dividers instead of individual static free inner packagings.
13107-M | RSPA-13276 | Sensors, Inc., Saline, MI | 49 CFR 172 Subparts C and G | To modify the special permit to authorize the discharge of a Division 2.1 material from an authorized DOT specification cylinder without removing the cylinder from the vehicle on which it is transported.
11526-M |  | Linde North America, Inc. Former Grantee: BOC Gases), Murray Hill, NJ | 49 CFR 172.302(c), (2), (3), (4), (5); 173.34(e)(1), (3), (4), (8); 173.34(15)(vi) | To modify the special permit to authorize larger cylinders.
14563-M | PHMSA-29093 | The Procter & Gamble Distributing LLC, Cincinnati, OH | 49 CFR 171.8 and 173.306(a)(3) | To modify the special permit to extend the date for the one-time, one-way, transportation in commerce of certain non-DOT specification metal receptacles containing Division 2.1 material as Consumer commodity, ORM-D by motor vehicle for disposal only.
10232-M |  | ITW Sexton (Former Grantee: Sexton Can Company, Inc.), Decatur, AL | 49 CFR 173 .304 | To modify the special permit to authorize a capacity increase to 61 cubic inches of the non-refillable, non-DOT specification container for the transportation of Division 2.2 materials.
14419-M |  | Voltaix, North Branch, NJ | 49 CFR 173.181(a) | To modify the special permit to authorize an increase in cylinder capacity.
12102-M | RSPA-4005 | Veolia ES Technical Solutions, L.L.C., Flanders, NJ | 49 CFR 173.56(i); 173.56(b) | To modify the special permit to authorize transportation by common or contract carrier of an additional Class 1 explosive material desensitized by wetting with water, alcohol or other suitable diluent so as to eliminate their explosive properties.
7954-M |  | Air Products & Chemicals, Inc., Allentown, PA | 49 CFR 173.301(d)(2); 173.302(a)(3) | To modify the special permit to authorize the transportation in commerce of certain Division 2.3 gases in 3T cylinders.
12562-M | RSPA-8306 | Taeyang Industrial Company Ltd., Cheonan-City | 49 CFR 173.304(d)(3)(ii) | To modify the special permit to authorize an additional Division 2.2 hazardous material.
13599-M | RSPA-18712 | Air Products & Chemicals, Inc., Allentown, PA | 49 CFR 173.304a(a)(2) | To modify the special permit to authorize an increase in fill densities/ratios for the DOT Specification seamless steel cylinders transporting a Division 2.2 material.
12405-M | RSPA-6766 | Air Products & Chemicals, Inc., Allentown, PA | 49 CFR 173.304(a)(2); 173.304(b) | To modify the special permit to make it consistent with other similar special permits regarding marking tube trailers.
14608-M | PHMSA-070081 | Ultimate Adventure Ballooning, LLC, Washington, MO | 49 CFR 173.304 | To reissue the special permit originally issued on an emergency basis for the transportation in commerce of non-DOT specification tanks that contain propane.
14318-M | PHMSA-23861 | Lockheed Martin Corporation (Former Grantee: Lockheed-Martin Technical Operations), Columbiana, OH | 49 CFR 173.315 | To modify the special permit to clarify the requirement for a dedicated enclosed metal sided truck.
11544-M |  | DS Containers, Inc., Batavia, IL | 49 CFR 173.306(a)(3)(v) | To modify the special permit to authorize additional non-DOT specification containers.
14568-M | PHMSA-29130 | Department of Defense, Ft. Eustis, VA | 49 CFR 173.431 | To reissue the special permit originally issued on an emergency basis for the transportation in commerce of portable nuclear gauges containing certain radioactive materials exceeding the quantity that may be transported in a Type A packaging.
13207-M |  | BEI, Honolulu, HI | 49 CFR 173.32(f)(5) | To modify the special permit to authorize additional portable tanks for the transportation in commerce of sulfuric acid.
8215-M |  | Olin Corporation, Brass and Winchester, Inc., East Alton, IL | 49 CFR Part 172, Subpart E; 172.320; 173.62(c); 173.212; 172.504(e) | To modify the special permit to authorize the use of a Division 1.1 placard.
14333-M | PHMSA-0624382 | The Columbiana Boiler Co., Columbiana, OH | 49 CFR 179.300-13(b) | To modify the special permit to authorize a new design in securing/sealing hex plugs.
11818-M |  | ITT Industries Space Systems, LLC, Rochester, NY | 49 CFR 180.205 | To modify the special permit to authorize the transportation in commerce of an additional Division 2.2 gas and to increase the maximum width of capillary pumped loops.
14638-M | PHMSA-080027 | Teledyne Energy Systems, Inc., Hunt Valley, MD | 49 CFR 173.213 | To reissue the special permit originally issued on an emergency basis for the transportation in commerce of up to two pressure vessels containing Magnesium or Magnesium alloys under an Argon blanket further packaged in a non-DOT specification wooden box capable of meeting the performance requirements for PG II and to remove the one time restriction.
New Special Permit Granted
14597-N | PHMSA-0048 | The Columbiana Boiler Co., Columbiana, OH | 49 CFR 173.314 | To authorize the transportation in commerce of anhydrous ammonia in a DOT 110 multi unit tank car tank. (modes 1, 2, 3)
14598-N | PHMSA-0049 | Tremcar USA, Inc., Saint-Jean-sur-Richelieu, CN | 49 CFR 178.345 | To authorize the use of an alternative material in the manufacture of cargo tank components. (mode 1)
14599-N | PHMSA-0047 | State of New York, Department of Health, Albany, NY | 49 CFR 171.2(k) | To authorize the transportation in commerce of packagings identified as infectious substances, Category B, which are actually non-hazardous for purposes of shipping and packaging drills conducted through New York State to evaluate bioterrorism, chemical terrorism and pandemic influenza preparedness. (modes 1, 2, 3, 4, 5)
14600-N | PHMSA-0050 | McLane Company, Inc., Temple, TX | 49 CFR 173.308 | To authorize the transportation in commerce of up to 5,000 lighters manufactured by BIC Corporation per motor vehicle not subject to the requirements of Subparts C through H of Part 173 and part 177 in its entirety. (mode 1)
14601-N | PHMSA-0045 | Precision Combustion Technology, LLC, Gonzales, LA | 49 CFR 173.302a | To authorize the manufacture, marking, sale and use of a non-DOT specification pressure vessel for the transportation in commerce of boron trifluoride. (modes 1, 2, 3)
14602-N | PHMSA-0051 | Lockheed Martin Space Systems Company, Sunnyvale, CA | 49 CFR 173.304a, 173.301, 172.101 Table Column (9B) | To authorize the transportation in commerce of anhydrous ammonia in non-DOT specification packaging. (modes 1, 2, 3, 4)
14603-N | PHMSA-0046 | Yi Wu Huan Qiu Can Manufacture, Yiwu City, Zhejiang | 49 CFR 173.304(d), 173.306(a)(3) and 178.33a | To authorize the manufacture, marking, sale and use of non-DOT specification inner nonrefillable metal receptables similar to DOT specification 2Q containers for certain Division 2.2 materials. (modes 1, 2, 3, 4)
14611-N |  | Honeywell International, Inc., Morristown, NJ | 49 CFR 178.44 | Authorizes the manufacture, marking and sale of a non-DOT specification pressure vessel comparable to a DOT-3HT cylinder for the transportation of compressed helium subject to the limitations and special requirements specified. (modes 1, 4)
14613-N | PHMSA-0079 | Valero St. Charles, Norco, LA | 49 CFR Subpart C of Part 172 | To authorize the transportation in commerce of certain hazardous materials without shipping paper documentation when transported across public roads within the Valero facility. (mode 1)
14615-N | PHMSA-0071 | SET Environmental Inc., Houston, TX | 49 CFR 173.244 | To authorize the one-time, one-way transportation in commerce of three- irregularly-shaped sodium disperson vessels in alternative packaging. (mode 1)
14617-N | PHMSA-0070 | Western International Gas & Cylinders, Inc., Bellville, TX | 49 CFR 172.302(a), 172.301(c), 180.205(f)(4), 180.205(g), 180.209(a) | To authorize the transportation in commerce of certain compressed gases in DOT specification 3A and 3AA cylinders when retested by 100 percent ultrasonic examination and external visual inspection in lieu of internal visual inspection and the hydrostatic retest. (modes 1, 2, 3, 4, 5)
14618-N | PHMSA-0073 | Carrier Transicold, Athens, GA | 49 CFR 177.834(1)(2)(i) | To authorize the use cargo of heaters in a motor vehicle when transporting flammable liquids or flammable gases in commerce. (mode 1)
14620-N | PHMSA-0068 | Air Products and Chemicals, Inc., Allentown, PA | 49 CFR 177.834(h) | To authorize filling and discharging fo a DOT Specification 4L cylinder with certain Division 2.2 compressed gases without removal from the transport vehicle. (mode 1)
14623-N | PHMSA-0084 | Formulated Solutions, Clearwater, FL | 49 CFR 173.306(a)(3)(v) | To authorize the manufacture, marking, sale and use of a bag-on-valve container for the transportation of non-flammable aerosols which have been tested by an alternative method in lieu of the hot water bath test. (modes 1, 2, 3, 4, 5).
14624-N | PHMSA-0098 | INOCOM Inc., Dalsung-gun, | 49 CFR 173.302a, | To authorize the manufacture, 173.304a and marking, sale and use of non-Daegu Korea 180.205 DOT specification fiber reinforced plastic (FRP) full composite (FC) cylinders for the transportation in commerce of certain Division 2.1 and 2.2 compressed gases. (modes 1, 2, 3, 4, 5)
14625-N | PHMSA-0097 | Sun & Skin Care Research, Inc., Cocoa, FL | 49 CFR 173.306(a)(3)(v) | To authorize the transportation in commerce of an aerosol in certain non-refillable containers which have been tested by an alternative method in lieu of the hot water bath test. (modes 1, 2, 3, 4, 5)
14627N | PHMSA-0095 | American Spraytech, North Branch, NJ | 49 CFR 173.306(a)(3)(v) | To authorize the transportation in commerce of certain aerosols containing a Division 2.2 compressed gas in certain non-refillable aerosol containers which are not subject to the hot water bath test. (mode 1)
14630-N | PHMSA-0007 | Dow Agrosciences LLC, Indianapolis, IN | 49 CFR 172.302(a); 172.504(a) | To authorize the transportation in commerce of Division 6.1 liquid fumigants in non-DOT specification cargo tanks equipped with an alternative pressure relief system. (mode 1)
14631-N | PHMSA-0009 | iSi Automotive, GmbH Austria | 49 CFR 173.301, 173.301, 173.302a and 173.305 | To authorize the manufacture, marking, sale and use of non-DOT specification cylinders for certain hazardous materials for use as components of safety systems. (modes 1, 2, 3, 4, 5)
14640-N | PHMSA-080034 | Chem Service, Inc., Chester County, PA | 49 CFR 173.4(a)(11) | To authorize the transportation in commerce of certain PG I hazardous materials that are not authorized for transportation aboard passenger-carrying aircraft under the small quantity provisions of 49 CFR 173.4. (modes 4, 5)
14641-N | PHMSA-0080024 | Conocophillips Alaska, Inc., Anchorage, AK | 49 CFR 172.101 Hazardous Materials Table Column (9B) | To authorize the transportation in commerce by air of certain hazardous materials in packagings that exceed the quantity limit for cargo carrying aircraft. (mode 4)
14644-N | PHMSA-08-0032 | El Aero Services, Inc., Elko, NV | 49 CFR 172.101 HMT Column (9B), 172.200, 172.300, 172.400 | To authorize the transportation in commerce of certain hazardous materials by cargo aircraft only in remote areas of the U.S. without being subject to hazard communication requirements and quantity limitations. (mode 4)
14648-N | PHMSA-080038 | Pacific Bio-Material Management, Inc., dba Pacific Scientific Transport, Fresno, CA | 49 CFR 173.196(b); 173.196(e)(2)(ii) | To authorize the transportation in commerce of certain infectious substances in specially designed packaging (freezers). (mode 1)
14650-N | PHMSA-08-0036 | Air Transport International, L.L.C., Little Rock, AR | 49 CFR 172.101; 171.11; 172.204(c)(3); 173.27; 175.30(a)(1); 175.320(b) | To authorize the transportation in commerce of certain Division 1.1, 1.2, 1.3 and 1.4 explosives which are forbidden or exceed quantities presently authorized. (mode 4)
14656-N |  | PurePak Technology Corporation, Chandler, AZ | 49 CFR 173.158(f)(3) | To authorize the transportation in commerce of nitric acid up to 70% concentration in an alternative packaging configuration. (modes 1, 2, 3)
14670-N |  | Flexcon Industries, Randolph, MA | 49 CFR 173.302a; 172.301(c); 173.306(g)(2) | 49 CFR § 173.302a in that non-DOT specification cylinders are not authorized, except as provided herein; § 173.306(g)(2) in that pneumatic pressure testing is not performed on every cylinder; and § 172.301(c) in that the marking requirements are waived.
Emergency Special Permit Granted
EE 14579-M |  | Summitt Environmental, Inc. (Summit), Wake Village, TX | 49 CFR 173.304a | 1st Rev, issued as an emergency modification to grant additional time. (mode 1)
EE 14589-M | PHMSA-080026 | Florida Power and Light Co., Jensen Beach, FL | 49 CFR 173.403, 173.427(b), 173.465(c) and (d) | To modify the special permit by implementing a barrier access to a localized area by installing a wire screen that will remain in place during transport and only allow access to radiation levels permitted by the HMR. (mode 1)
EE 14526-M |  | Kidde Aerospace, Wilson, NC | 49 CFR 173.302a | To reissue the special permit originally issued on an emergency basis for the transportation in commerce of a Division 2.2 compressed gas in a non-DOT specification cylinder similar to a DOT--39 for transportation by motor vehicle. (modes 1, 3)
EE 14684-M |  | A.O. Smith Corporation, Milwaukee, WI | 49 CFR 173.302a | To modify the special permit by waiving the placarding requirements in Part 172, Subpart F. (mode 1)
EE 14596-N | PHMSA-080013 | Lynden Transport, Houston, TX | 49 CFR 172.300, 172.301(c), 172.400, and 173.62 | To authorize the emergency, one-time transportation in commerce of approximately 50 damaged DOT specification packages, some with obscured marking or labeling, that contain 1.4D explosive materials. The packages would be moved from OK to the shipper's facility in Irving, TX.
EE 14606-N |  | California State, local, tribal and Federal Gov't officials and persons conducting operations under the direction of those government officials, CA | 49 CFR Parts 171 through 180, except as specified | This emergency special permit authorizes the transportation in commerce of hazardous materials used to support the Southern California wildland fire recovery efforts. (mode 1)
EE 14607-N |  | Bayer Crop Science LP, Research Triangle Park, NC | 49 CFR 172.302(c) in that marking the SP number is waived; 173.32(a)(2) in that the SP would allow the one-time transportation of portable tanks that have been filled past their retest due date; 177.801 in that the motor carriers would be authorized to accept the 4 tanks not in accordance with the regulations; and 180.605, in that portable tanks filled past their retest due date would be authorized for one trip | This emergency special permit authorizes the one-way transportation in commerce of 4 DOT IM 101 portable tanks that were filled beyond the required 2.5-year reinspection period. (mode 1)
EE 14608-N | PHMSA-070081 | Ultimate Adventure Ballooning, LLC, Washington, MO | 49 CFR 173.304 in that the packaging is a non-DOT specification tank. | To authorize the transportation in commerce of non-DOT specification tanks that contain propane. (mode 1)
EE 14610-N | PHMSA-070053 | 3M Company, St. Paul, MN | 49 CFR 173.56 | To authorize the one-time, one-way transportation in commerce of stainless steel UN31A intermediate bulk containers containing a liquid hazardous material that may meet the definition for explosive material as Resin solution, Class 3. (mode 1)
EE 14634-N | PHMSA-080025 | Teck Cominco, Alaska Incorporated, Anchorage, AK | 49 CFR 173.159(c)(1) | To authorize the one-time, one-way transportation in commerce of a forklift battery pack in non-DOT specification packaging by cargo only aircraft. (mode 4)
EE 14635-N | PHMSA-080028 | Brainerd Chemical Co., Inc., Tulsa, OK | 49 CFR 173.158(d) | To authorize the transportation in commerce of Nitric acid, other than red fuming in alternative packaging when transported by motor vehicle. (mode 1)
EE 14636-N | PHMSA-080017 | Defense Logistics Agency, Lackland Air Force Base, TX | 49 CFR 180.209 | To authorize the transportation in commerce of certain DOT specification 3AA and 3T cylinders that are past the test date for requalification. (modes 1, 2, 4, 5)
EE 14637-N | PHMSA-080017 | Department Logistics Agency, Lackland Air Force Base, TX | 49 CFR 173.302a | To authorize the transportation in commerce of certain DOT specification 3AA and 3T cylinders that are past the test date for requalification. (modes 1, 2, 4, 5)
EE 14637-N | PHMSA-080033 | Department of Defense, Scott AFB, IL | 49 CFR 173.302a | To authorize the transportation in commerce of a Division 2.2 compressed gas in a non-DOT specification pressure vessel. (modes 1, 2, 4, 5)
EE 14638-N | PHMSA-080027 | Teledyne Energy Systems, Inc., Hunt Valley, MD | 49 CFR 173.213 | To authorize the transportation in commerce of up to two pressure vessels containing Magnesium or Magnesium alloys under an Argon blanket further packaged in a non-DOT specification wooden box capable of meeting the performance requirements for PG II. (mode 1)
EE 14639-N | PHMSA-080026 | Seacon Corporation, Charlotte, NC | 49 CFR 172.407 | To authorize the transportation in commerce of certain packages containing Division 4.1 (flammable solid) hazardous materials which are labeled with a FLAMMABLE SOLID label that does not meet the minimum size requirements. (mode 1)
EE 14647-N | PHMSA-080029 | Arkema, Inc., Philadelphia, PA | 49 CFR 172.407(c) and 172.301(c) | To authorize the transportation in commerce of certain packages containing a 2.2 gas in DOT specification cylinders, overpacked in cartons which were inadvertently printed with hazard warning labels that do not meet the size requirements in 49 CFR. (modes 1, 2, 3)
EE 14659-N | PHMSA-08-0056 | ESM Group Inc., Amherst, NY | 49 CFR 173.242(b) and (c) | To authorize the transportation in commerce of calcium carbide (UN1402), Division 4.1, PG I in non-DOT specification bulk containers by motor vehicle. (modes 1, 2)
EE 14662-N |  | Flexcon Industries, Randolph, MA | 49 CFR 173.302a | To authorize the one-way transportation in commerce by motor vehicle of approximately 5,500 non-DOT specification cylinders containing compressed air at less than 55 psia. (mode 1)
EE 14665-N | PHMSA-080053 | Tgi Co., Inc. dba Tgi Freight, Anchorage, AK | 49 CFR 173.159(c)(1) | To authorize the one-time, one-way transportation in commerce of a forklift battery pack in non-DOT specification packaging by cargo only aircraft. (mode 4)
EE 14666-N |  | Durant Performance Coatings, Revere, MA | 49 CFR 173.203 | To authorize the one-time, one-way transportation in commerce of a Class 3 PG III flammable liquid in alternative packaging by motor vehicle. (mode 1)
EE 14672-N | PHMSA-08-0098 | Pacific Bio-Material Management, Inc., Fresno, CA | 49 CFR 173.301(c), 173.196 and 178.609 | To authorize the one-time, one-way transportation in commerce of certain Category A infectious substances by motor vehicle in alternative packaging for a distance of less than 15 miles. (mode 1)
EE 14673-N |  | Pentair Water Treatment Company and Pentair Water Treatment Company's Distributors, Chardon, OH | 49 CFR 173.302a | To authorize the transportation in commerce of approximately 7200 non-DOT specification fully wrapped fiber-reinforced composite cylinders containing compressed air at a pressure not greater than 46 psig. (mode 1)
EE 14684-N |  | A.O. Smith Corporation, Milwaukee, WI | 49 CFR 173.302a | To authorize the one-way transportation in commerce by motor vehicle of approximately 49,300 non-DOT specification cylinders containing compressed air at less than 38 psig. (mode 1)
EE 14685-N |  | Carbide Industries, LLC, Louisville, KY | 49 CFR 173.211 and 172.102(c)(4) IBC Code IB4 | To authorize the transportation in commerce of calcium carbide (UN1402), Division 4.1, PG I in UN1A2 steel drums that are capable of meeting the PG I performance criteria and in UN13H3 and 13H4 flexible IBCs that are tested and marked to the PG II performance level. (modes 1, 2)
EE 14686-N |  | JCI Jones Chemicals, Inc., Charlotte, NC | 49 CFR 173.3(a), 173.22(a)(2) and 173.304a(a)(2) | To authorize the transportation in commerce of approximately five non-DOT specification ICC 25 specification cylinders that contain residues of either chlorine or sulfur dioxide. The cylinders need to be transported to a facility for purging, cleaning and disposal. (mode 1)
EE 14693-N |  | PAE Government Service (A Lockheed Martin Company), Arlington, VA | 49 CFR 173.159(b) | To authorize the one-time, one-way transportation in commerce of a forklift battery pack in non-DOT specification packaging by cargo only aircraft. (mode 4)
EE 14694-N |  | Department of Defense Scott AFB, IL | 49 CFR 173.62 | To authorize the transportation in commerce of certain equipment contaminated with explosives in non-DOT specification packaging. (mode 1)
EE 14695-N |  | Linde North America Inc., Murray Hill, NJ | 49 CFR 180.209 | To authorize the transportation in commerce of five DOT specification 3T cylinders that are past the test date for requalification. (modes 1, 2, 3)
EE 14702-N |  | CRI/Criterion, Inc. and its affiliate businesses, Houston, TX | 49 CFR 178.812(a) and 178.801(i) | To authorize the transportation in commerce of approximately 2,500 UN11HG2W, UN11HH2 and UN11HH2W certified intermediate bulk containers that do not meet all the requirements of the competent authority approval that authorized their manufacture. (modes 1, 2, 3)
Modification Special Permit Withdrawn
8299-M |  | Pacific Scientific Company, Duarte, CA | 49 CFR 173.304(a)(1); 175.3; 178.44 | To modify the special permit to remove the ten percent gauge length testing requirement.
12301-M | PHMSA-995903 | Arysta LifeScience North America, Cary, NC | 49 CFR 173.193(b) | To modify the special permit by adding an additional Division 6.1, Hazard Zone B hazardous material in DOT-Specification 4BW cylinders that exceed the presently authorized quantity limitations.
14393-M | PHMSA-27695 | Hamilton Sundstrand Windsor Locks, CT | 49 CFR 173.306(e)(iii), (iv), (v) and (vi); 173.307(a)(4)(iv) | To modify the special permit to authorize the transportation in commerce of new supplemental cooling unit refrigeration machines with alternative safety devices as a component part of an aircraft.
New Special Permit Withdrawn
14614-N | PHMSA-0072 | Great Lakes Chemicals Corporation, West Lafayette, IN | 49 CFR 173.193 | To authorize the transportation in commerce of non-DOT specification cylinders manufactured in the U.S. for export with valving and relief device requirements of the country that the cylinders will be exported to for use in transporting various compressed gases. (modes 1, 3)
14626-N | PHMSA-0096 | Aerojet Sacramento, CA | 49 CFR 173.56, 173.60 and 173.62 | To authorize the one-time, one-way transportation in commerce of a Class 1 explosive contained in a solid rocket motor in alternative packaging. (mode 1)
14671-N |  | SGL Carbon LLC, Charlotte, NC | 49 CFR 173.240 | To authorize the transportation of Class 9 hazardous materials in an open flat-bed railcar. (mode 2)
Emergency Special Permit Withdrawn
EE 14653-N | PHMSA-08-0040 | Pacific Bio-Material Management, Inc. dba Pacific Scientific Transport, Fresno, CA | 49 CFR 173.196(b); 173.196(e)(2)(ii) | To authorize the transportation in commerce of Category A infectious substances in specialty designed packaging (freezers). (mode 1)
Denied
14510-M | Request by Clean Earth Systems, Inc. Tampa, FL February 04, 2008. To modify the special permit to authorize the transportation in commerce by motor vehicle of certain hazardous materials in larger UN4G fiberboard boxes lined with polyethylene.
14562-M | Request by The Lite Cylinder Company Franklin, TN May 30, 2008. To modify the special permit to authorize an increase in the water capacity of Lite's cylinders and to authorize an alternative drop test.
14629-N | Request by Eastman Chemical Company Kingsport, TN May 30, 2008. To authorize the filling and transportation of certain railcars having broken or unused magnetic gauging devices (MGDs) without first obtaining a specific FRA Movement Approval for each railcar or conducting the repair on site.
14642-N | Request by MEMC Pasadena, Inc. Pasadena, TX May 12, 2008. To authorize the transportation in commerce of certain DOT Specification 3AAX cylinders containing Silicon tetrafluoride without pressure relief devices.
14562-M | PHMSA-080046 | The Lite Cylinder Company, Franklin, TN | 49 CFR 173.304a(a)(1) | To modify the special permit to authorize the manufacture, mark and sale of additional larger capacity cylinders.
10298-M |  | Brooks Air Transport, Inc., Fairbanks, AK | 49 CFR 172.101, column (6)(b); 173.119; 175.320 | To modify the special permit by deleting the requirement that transportation is only authorized in areas ``where the runway sizes prohibit large aircraft with installed tanks and there is no other practical alternative to air shipments of these portable tanks.''
11606-M |  | Safety-Kleen Systems, Inc., Humble, TX | 49 CFR 173.28(b)(2) | To modify the special permit to authorize approved exclusive use contract carriers.
14675-N |  | Department of Energy, Washington, DC | 49 CFR 173.417 | To authorize the continued transportation in commerce of radioactive material in alternative packaging authorized under an NRC certificate of compliance which expires October 1, 2008. (mode 1)
14687-N |  | National Aeronautics and Space Administration (NASA), Kennedy Space Center, FL | 49 CFR 180.209(a)(1) and (b), 180.205(f), (g), (h), and (i), 180.213(d), 180.215(a) and (b) and 173.302a(b)(3) and (b)(4) | To authorize the ultrasonic testing of DOT-3A, DOT-3AA and 3AL specification cylinders and cylinders manufactured under DOT-SP 9001, 9370, 9421, 9706, 9909, 10047 and 10869 for use in transporting Division 2.1, 2.2 or 2.3 material. (modes 1, 2, 3, 4, 5)
EE 14612-N |  | CABB North America, Inc., Huntersville, NC | 49 CFR 173.243 | To authorize the transportation in commerce of chloroacedic acid in non-DOT specification cargo tanks made of titanium. (mode 1)

[FR Doc. E8-13215 Filed 6-18-08; 8:45 am]

BILLING CODE 4909-60-M